FEDERAL EMERGENCY MANAGEMENT AGENCY

44 CFR Part 65

[Docket No. FEMA-B-7403]

Changes in Flood Elevation Determinations

AGENCY: Federal Emergency Management Agency (FEMA).

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table below and revise the Flood Insurance Rate Map(s) in effect prior to this determination for each listed community.

From the date of the second publication of these changes in a newspaper of local circulation, any person has ninety (90) days in which to request through the community that the Associate Director for Mitigation reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based on knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in base flood elevations are in accordance with 44 CFR 65.4.

National Environmental Policy Act

This rule is categorically excluded from the requirements of 44 CFR part 10, Environmental Consideration. No environmental impact assessment has been prepared.

Regulatory Flexibility Act

The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arizona:
Maricopa | City of Glendale | July 27, 2000, August 3, 2000, Arizona Republic | The Honorable Elaine Scruggs, mayor, City of Glendale, 5850 West Glendale Avenue, Glendale, Arizona 85301 | July 5, 2000 | 040045
Maricopa | City of Glendale | August 31, 2000, September 7, 2000, Arizona Republic | The Honorable Elaine Scruggs, mayor, City of Glendale, 5850 West Glendale, Glendale, Arizona 85301 | August 10, 2000 | 040045
Maricopa | City of Peoria | July 27, 2000, August 3, 2000, Arizona Republic | The Honorable John Keegan, mayor, City of Peoria, 8401 West Monroe Street, Peoria, Arizona 85345 | July 5, 2000 | 040050
Maricopa | City of Phoenix | July 27, 2000, August 3, 2000, Arizona Republic | The Honorable Skip Rimsza, mayor, City of Phoenix, 200 West Washington Street, 11th Floor, Phoenix, Arizona 85003 | July 5, 2000 | 040051
Maricopa | City of Phoenix | August 31, 2000, September 7, 2000, Arizona Republic | The Honorable Skip Rimsza, mayor, City of Phoenix, 200 West Washington Street, 11th Floor, Phoenix, Arizona 85003 | August 10, 2000 | 040051
Maricopa | City of Phoenix | September 14, 2000, September 21, 2000, Arizona Republic | The Honorable Skip Rimsza, mayor, City of Phoenix, 200 West Washington Street, 11th Floor, Phoenix, Arizona 85003 | August 22, 2000 | 040051
Maricopa | Unincorporated Areas | August 31, 2000, September 7, 2000, Arizona Republic | The Honorable Andrew Kunasek, chairperson, Maricopa County Board of Supervisors, 301 West Jefferson, 10th Floor, Phoenix, Arizona 85003 | August 10, 2000 | 040037
Mohave | Unincorporated Areas | July 6, 2000, July 13, 2000, Kingman Daily Miner | The Honorable Buster Johnson, chairperson, Mohave County Board of Supervisors, 809 East Beale Street, Kingman, Arizona 86401-5924 | October 20, 2000 | 040058
Pima | City of Tucson | July 6, 2000, July 13, 2000, Arizona Daily Star | The Honorable Robert E. Walkup, mayor, City of Tucson, P.O. Box 27210, Tucson, Arizona 85726 | June 16, 2000 | 040076
Pima | City of Tucson | July 27, 2000, August 3, 2000, Tucson Citizen | The Honorable Robert E. Walkup, mayor, City of Tucson, P.O. Box 27210, Tucson, Arizona 85726 | July 10, 2000 | 040076
Pima | City of Tucson | August 29, 2000, September 5, 2000, Tucson Citizen | The Honorable Robert E. Walkup, mayor, City of Tucson, P.O. Box 27210, Tucson, Arizona 85726 | August 8, 2000 | 040078
Pima | City of Tucson | August 30, 2000, September 6, 2000, Tucson Citizen | The Honorable Robert E. Walkup, mayor, City of Tucson, P.O. Box 27210, Tucson, Arizona 85726 | July 26, 2000 | 040076
Pima | Unincorporated Areas | July 6, 2000, July 13, 2000, Arizona Daily Star | The Honorable Sharon Bronson, chairperson, Pima County, Board of Supervisors, 130 West Congress, 11th Floor Tucson, Arizona 85701 | June 16, 2000 | 040073
California:
Mendocino | Unincorporated Areas | September 22, 2000, September 29, 2000, Ukia Daily Journal | The Honorable Michael Delbar, chairperson, Mendocino County, Board of Supervisors, 501 Low Gap Road, Room 1090, Ukiah, California 95482 | August 21, 2000 | 060183
Napa | Unincorporated Areas | June 29, 2000, July 6, 2000, Napa Valley Register | The Honorable Jay Hull, Administrator, Napa County, 1195 Third Street, Third Floor, Room 310, Napa, California 94559 | June 14, 2000 | 060205
Orange | City of Irvine | June 9, 2000, June 16, 2000, Orange County Register | The Honorable Christina Shea, mayor, City of Irvine, P.O. Box 19575, Irvine, California 92623-9575 | May 26, 2000 | 060222
Orange | City of Laguna Hills | June 9, 2000, June 16, 2000, Orange County Register | The Honorable Joel Lautenschleger, mayor, City of Laguna Hills, 25201 Paseo de Alicia, Suite 150, Laguna Hills, California 92653 | May 26, 2000 | 060760
Riverside | City of Moreno Valley | September 22, 2000, September 29, 2000, Valley Times | The Honorable Richard Stewart, mayor, City of Moreno Valley, 14177 Frederick Street, Moreno Valley, California 92552 | August 31, 2000 | 065074
Sacramento | City of Folsom | June 28, 2000, July 5, 2000, The Folsom Telegraph | The Honorable Stephen Miklos, mayor, City of Folsom, 50 Natoma Street, Folsom, California 95630 | June 8, 2000 | 060263
Sacramento | City of Sacramento | September 13, 2000, September 20, 2000, Sacramento Bee | The Honorable Joe Serna, Jr., mayor, City of Sacramento, City Hall, 915 I Street, Room 205, Sacramento, California 95814 | August 21, 2000 | 060266
Sacramento | Unincorporated Areas | August 22, 2000, August 29, 2000, Sacramento Bee | The Honorable Roger Dickinson, chairperson, Sacramento County, Board of Supervisors, 700 H Street, Room 2450, Sacramento, California 95814 | August 2, 2000 | 060262
Sacramento | Unincorporated Areas | September 14, 2000, September 21, 2000, Sacramento Bee | The Honorable Roger Dickinson, chairperson, Sacramento County, Board of Supervisors, 700 H Street, Room 2450, Sacramento, California 95814 | August 23, 2000 | 060262
San Diego | City of Oceanside | September 12, 2000, September 19, 2000, North County Times | The Honorable Dick Lyon, mayor, City of Oceanside, 300 North Coast Highway, Oceanside, California 92054-2885 | August 25, 2000 | 060294
Colorado:
Arapahoe | City of Aurora | August 10, 2000, August 17, 2000, Aurora Sentinel | The Honorable Paul Tauer, mayor, City of Aurora, 1470 South Havana Street, Aurora, Colorado 80012 | July 19, 2000 | 080002
El Paso | City of Colorado Springs | August 15, 2000, August 22, 2000, The Gazette | The Honorable MaryLou Makepeace, mayor, City of Colorado Springs, P.O. Box 1575, Colorado Springs, Colorado 80901-1575 | July 28, 2000 | 080060
Mesa | City of Grand Junction | August 17, 2000, August 24, 2000, Daily Sentinel | The Honorable Gene Kinsey, mayor, City of Grand Junction, 250 North Fifth Street, Grand Junction, Colorado 81501-2668 | November 22, 2000 | 080117
Mesa | Unincorporated Areas | August 17, 2000, August 24, 2000, Daily Sentinel | The Honorable Doralyn B. Genova, chairperson, Mesa County, Board of Commissioners, P.O. Box 20000, Grand Junction, Colorado 81502-5001 | November 22, 2000 | 080115
Weld | Town of Windsor | August 31, 2000, September 7, 2000 Windsor Beacon | The Honorable Wayne Miller, mayor, Town of Windsor, 301 Walnut Street, Windsor, Colorado 80550 | December 6, 2000 | 080264
Weld | Unincorporated Areas | August 31, 2000, September 7, 2000, Greeley Daily Tribune | The Honorable Barbara Kirkmeyer, chairperson, Weld County, Board of Commissioners, P.O. Box 758 Greeley, Colorado 80632-0758 | December 6, 2000 | 080266
Idao:
Boise | City of Idaho City | August 18, 2000, August 25, 2000 The Idaho Statesman | The Honorable Thomas D. Corum, mayor, City of Idaho City, P.O. Box 130, Idaho City, Idaho 83631 | July 28, 2000 | 160222
Boise | Unincorporated Areas | August 18, 2000, August 25, 2000, The Idaho Statesman | The Honorable John S. Foard, Sr., chairperson, Boise County, Board of Commissioners, P.O. Box BC, Idaho City, Idaho 83631 | July 28, 2000 | 160205
Teton | Unincorporated Areas | August 17, 2000, August 24, 2000, Teton Valley News | The Honorable Brent Robson, chairperson, Teton County, Board of Commissioners, 89 North Main, Driggs, Idaho 83422 | August 2, 2000 | 160230
Nevada:
Clark | Unincorporated Areas | July 21, 2000, July 28, 2000, Las Vegas Review-Journal | The Honorable Bruce L. Woodbury, chairperson, Clark County, Board of Commissioners, P.O. Box 551601, Las Vegas, Nevada 89155-1601 | June 28, 2000 | 320003
Clark | Unincorporated Areas | September 21, 2000, September 28, 2000, Las Vegas Review-Journal | The Honorable Bruce L. Woodbury, chairperson, Clark County, Board of Commissioners, P.O. Box 551601 Las Vegas, Nevada 89155-1601 | August 29, 2000 | 320003
Elko | City of Elko | August 16, 2000, August 23, 2000, Elko Daily Free Press | The Honorable Mike Franzoia, mayor, City of Elko, 1751 College Avenue, Elko, Nevada 89801 | July 21, 2000 | 320010
New Mexico:
Bernalillo | City of Albuquerque | August 9, 2000, August 16, 2000, Albuquerque Journal | The Honorable Jim Baca, mayor, City of Albuquerque, P.O. Box 1293, Albuquerque, Nex Mexico 87103 | July 13, 2000 | 350002
New Mexico:
Bernalillo | City of Albuquerque | August 10, 2000, August 17, 2000, Albuquerque Journal | The Honorable Jim Baca, mayor, City of Albuquerque, P.O. Box 1293, Albuquerque, New Mexico 87103 | July 13, 2000 | 350002
Oklahoma:
Tulsa | City of Bixby | September 15, 2000, September 22, 2000, Tulsa World | The Honorable Joe Williams, mayor, City of Bixby, 116 West Needles Avenue, Bixby, Oklahoma 74008 | December 21, 2000 | 400207
Tulsa | City of Tulsa | September 15, 2000, September 22, 2000, Tulsa World | The Honorable M. Susan Savage, mayor, City of Tulsa, City Hall, 200 Civic Center, Tulsa, Oklahoma 74103 | December 21, 2000 | 405381
Tulsa | Unincorporated Areas | September 15, 2000, September 22, 2000, Tulsa World | The Honorable Wilbert E. Collins, Sr., chairperson, Tulsa County, Board of Commissioners, 500 South Denver, Tulsa, Oklahoma 74103 | December 21, 2000 | 400462
Oregon:
Clackamas | City of Milwaukee | September 15, 2000, September 22, 2000, The Oregonian | The Honorable Carolyn Tomeri, mayor, City of Milwaukee, City Hall, 10722 Southeast Main Street, Milwaukee, Oregon 97222 | December 21, 2000 | 410019
Clackamus | Unincorporated Areas | September 15, 2000, September 22, 2000, The Oregonian | The Honorable Bill Kennemer, chairperson, Clackamus County, Board of Commissioners, 906 Main Street, Oregon City, Oregon 97045 | December 21, 2000 | 415588
Multnomah | City of Portland | September 15, 2000, September 22, 2000, The Oregonian | The Honorable Vera Katz, mayor, City of Portland, 1221 Southwest Fourth Avenue, Portland, Oregon 97204 | December 21, 2000 | 410183
Multnomah | Unincorporated Areas | September 15, 2000, September 22, 2000, The Oregonian | The Honorable Beverly Stein, chairperson, Multnomah County, Board of Commissioners, 1120 Southwest Fifth Avenue, Room 1515, Portland, Oregon 97204 | December 21, 2000 | 410179
Texas:
Brazos | City of College Station | August 3, 2000, August 10, 2000, Bryan-College Station Eagle | The Honorable Lynn McIlhaney, mayor, City of College Station, P.O. Box 9960, College Station, Texas 77842-0960 | July 10, 2000 | 480083
Collin | City of Frisco | July 28, 2000/August 4, 2000, Frisco Enterprise | The Honorable Kathy Seei, mayor, City of Frisco, P.O. Box 1100, Frisco, Texas 75034 | July 5, 2000 | 480134
Collin | City of Plano | August 16, 2000, August 23, 2000, Plano Star Courier | The Honorable Jeran Akers, mayor, City of Plano, P.O. Box 860358, Plano, Texas 75086-0358 | July 25, 2000 | 480140
Collin | Unincorporated Areas | August 16, 2000, August 23, 2000, Plano Star Courier | The Honorable Ron Harris, Collin County Judge, 210 South McDonald Street, McKinney, Texas 75086-0358 | July 25, 2000 | 480130
Dallas | City of Dallas | September 19, 2000, September 26, 2000, Dallas Morning News | The Honorable Ron Kirk, mayor, City of Dallas, City Hall, 150 Marilla Street, Dallas, Texas 75201 | August 24, 2000 | 480171
Dallas | City of Richardson | August 3, 2000, August 10, 2000 Richardson Daily News | The Honorable Gary Slagel, mayor, City of Richardson, P.O. Box 830309, Richardson, Texas 75083-0309 | November 8, 2000 | 480184
Denton | City of Denton | August 10, 2000, August 17, 2000 Denton Record-Chronicle | The Honorable Euline Brock, mayor, City of Denton, 215 East Mckinney Street, Denton, Texas 76201 | July 14, 2000 | 480194
Harris | Unincorporated Areas | August 29, 2000, September 5, 2000 Houston Chronicle | The Honorable Robert Eckels, Harris County Judge, 1001 Preston Street, Suite 911, Houston, Texas 77002 | August 14, 2000 | 480287
Montgomery | Unincorporated Areas | September 7, 2000, September 14, 2000 Conroe Courier | The Honorable Alan Sadler, Montgomery County Judge, 301 North Thompson Street, Suite 210, Conroe, Texas 77301 | December 13, 2000 | 480483

(Catalog of Federal Domestic Assistance No. 83.100, “Flood Insurance.”)
Dated: October 20, 2000.
Michael J. Armstrong,
Associate Director for Mitigation.

[FR Doc. 00-27641 Filed 10-26-00; 8:45 am]

BILLING CODE 6718-04-P